DEPARTMENT OF HOMELAND SECURITY

U.S. Citizenship and Immigration Services

[CIS No. 2673-20; DHS Docket No. USCIS-2014-0004]

RIN 1615-ZB79

Extension of the Designation of South Sudan for Temporary Protected Status

AGENCY: U.S. Citizenship and Immigration Services, Department of Homeland Security.

ACTION: Notice.

SUMMARY: Through this notice, the Department of Homeland Security (DHS) announces that the Secretary of Homeland Security (Secretary) is extending the designation of South Sudan for Temporary Protected Status (TPS) for 18 months, from November 3, 2020, through May 2, 2022. The extension allows currently eligible TPS beneficiaries to retain TPS through May 2, 2022, so long as they otherwise continue to meet the eligibility requirements for TPS. This notice also sets forth procedures necessary for nationals of South Sudan (or aliens having no nationality who last habitually resided in South Sudan) to re-register for TPS and to apply for Employment Authorization Documents (EADs) with U.S. Citizenship and Immigration Services (USCIS). USCIS will issue new EADs with a May 2, 2022, expiration date to eligible beneficiaries under South Sudan's TPS designation who timely re-register and apply for EADs under this extension.

DATES: Extension of Designation of South Sudan for TPS: The 18-month extension of the TPS designation of South Sudan is effective November 3, 2020, and will remain in effect through May 2, 2022. The 60-day re-registration period runs from November 2, 2020 through January 4, 2021. (Note: It is important for re-registrants to timely re-register during this 60-day period and not to wait until their EADs expire.)

FOR FURTHER INFORMATION CONTACT: • You may contact Maureen Dunn, Chief, Humanitarian Affairs Division, Office of Policy and Strategy, U.S. Citizenship and Immigration Services, U.S. Department of Homeland Security, by mail at 20 Massachusetts Avenue NW, Washington, DC 20529-2060, or by phone at 800-375-5283.

• For further information on TPS, including guidance on the re-registration process and additional information on eligibility, please visit the USCIS TPS web page at www.uscis.gov/tps. You can find specific information about this extension of South Sudan's TPS designation by selecting “South Sudan” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at www.uscis.gov, or visit the USCIS Contact Center at uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this notice, DHS sets forth procedures necessary for eligible nationals of South Sudan (or aliens having no nationality who last habitually resided in South Sudan) to re-register for TPS and to apply for renewal of their EADs with USCIS. Re-registration is limited to aliens who have previously registered for TPS under the designation of South Sudan and whose applications have been granted.

For aliens who have already been granted TPS under South Sudan's designation, the 60-day re-registration period runs from November 2, 2020 through January 4, 2021. USCIS will issue new EADs with a May 2, 2022, expiration date to eligible South Sudanese TPS beneficiaries who timely re-register and apply for EADs. Given the timeframes involved with processing TPS re-registration applications, DHS recognizes that all re-registrants may not receive new EADs before their current EADs expire on November 2, 2020. Accordingly, through this Federal Register notice, DHS automatically extends the validity of these EADs previously issued under the TPS designation of South Sudan for 180 days, through May 1, 2021. Therefore, TPS beneficiaries can show their EADs with (1) a November 2, 2020 expiration date and (2) an A-12 or C-19 category code as proof of continued employment authorization through May 1, 2021. This notice explains how TPS beneficiaries and their employers may determine which EADs are automatically extended and how this affects the Employment Eligibility Verification (Form I-9), E-Verify, and USCIS Systematic Alien Verification for Entitlements (SAVE) processes.

Aliens who have a South Sudan-based Application for Temporary Protected Status (Form I-821) and/or Application for Employment Authorization (Form I-765) that was still pending as of November 2, 2020 do not need to file either application again. If USCIS approves an alien's Form I-821, USCIS will grant the alien TPS through May 2, 2022. Similarly, if USCIS approves a pending TPS-related Form I-765, USCIS will issue the alien a new EAD that will be valid through the same date. There are currently approximately 98 beneficiaries under South Sudan's TPS designation.

What is Temporary Protected Status (TPS)?

• TPS is a temporary immigration status granted to eligible nationals of a country designated for TPS under the Immigration and Nationality Act (INA), or to eligible aliens without nationality who last habitually resided in the designated country.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had prior to the travel.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was South Sudan designated for TPS?

South Sudan was initially designated on October 13, 2011, on the dual bases of ongoing armed conflict and extraordinary and temporary conditions in South Sudan that prevented nationals of South Sudan from safely returning. See Designation of Republic of South Sudan for Temporary Protected Status, 76 FR 63629 (Oct. 13, 2011). Following the initial designation, the Secretary extended and newly designated South Sudan for TPS in 2013, 2014, and 2016. See Extension and Redesignation of South Sudan for Temporary Protected Status, 78 FR 1866 (Jan. 9, 2013); Extension and Redesignation of South Sudan for Temporary Protected Status, 79 FR 52019 (Sept. 2, 2014); Extension and Redesignation of South Sudan for Temporary Protected Status, 81 FR 4051 (Jan. 25, 2016). In 2017, DHS extended TPS for South Sudan, based on ongoing armed conflict and extraordinary and temporary conditions. See Extension of South Sudan for Temporary Protected Status, 82 FR 44205 (Sept. 21, 2017). Most recently, in 2019, the Secretary extended South Sudan's TPS designation for 18 months, based on ongoing armed conflict and extraordinary and temporary conditions. See Extension of the Designation of South Sudan for Temporary Protected Status, 84 FR 13688 (Apr. 5, 2019).

What authority does the Secretary have to extend the designation of South Sudan for TPS?

Section 244(b)(1) of the INA, 8 U.S.C. 1254a(b)(1), authorizes the Secretary, after consultation with appropriate agencies of the U.S. Government (Government), to designate a foreign state (or part thereof) for TPS if the Secretary determines that certain country conditions exist.¹ The decision to designate any foreign state (or part thereof) is a discretionary decision, and there is no judicial review of any determination with respect to the designation, or termination of, or extension of, a designation. See id., INA section (b)(5)(A), 8 U.S.C. 1265a(b)(5)(A). The Secretary, in his discretion, may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending the TPS designation for South Sudan through May 2, 2022?

DHS has reviewed conditions in South Sudan. Based on the review, the Secretary has determined that an 18-month extension is warranted because the ongoing armed conflict and extraordinary and temporary conditions supporting South Sudan's TPS designation remain.

On February 21, 2020, President Salva Kiir Mayardit dissolved the incumbent government and appointed the Chairman of the Sudan People's Liberation Movement/Army-In Opposition (SPLM/A-IO), Riek Machar Teny, as First Vice-President, launching the formation of the Revitalized Transitional Government of National Unity. Despite a decrease in large-scale fighting and limited progress on the country's political transition, ongoing armed conflict persists in several areas in South Sudan among both signatories and non-signatories to the peace agreement, according to the U.S. Department of State (DOS). DOS reported the continuing prevalance of incidents of armed groups attacking civilians—consistently the leading form of violence throughout the conflict. In addition, high military and ethnic militia mobilization, armed groups' readiness to resort to violence, and a lack of accountability persist, according to DOS.

Outbreaks of armed conflict in 2019 and 2020 among SPLM/A, SPLM/A-IO, and non-signatory groups included sporadic fighting in Central and Eastern Equatoria states, where hostilities contributed to the targeting of civilians through armed attacks, abductions, and kidnappings, according to the United Nations Panel of Experts on South Sudan. Fighting in Upper Nile state between SPLM/A and SPLM/A-IO forces led to attacks against civilians, including murders, looting, and sexual violence, and provoked extensive civilian displacement. In Western Bahr el-Ghazal state, internal SPLM/A leadership disputes erupted, leading to conflict-related incidents of sexual violence and the kidnapping of civilians, according to United Nations reporting. In Warrap state, heavy clashes erupted between armed civilians and government forces carrying out a disarmament project, resulting in many deaths. Both DOS and the United Nations reported that the intensity of intercommunal violence increased in 2019 and 2020, as localized competition for resources was exacerbated by adverse weather conditions and struggles for dominance along ethnic, tribal, and subclan lines.

Sexual and gender-based violence (SGBV) remains pervasive, with both state and non-state armed groups continuing to use SGBV as a weapon of war, according to DOS. SPLM/A and SPLM/A-IO forces continue to conscript children under 15 years of age into their ranks, according to the United Nations Commission on Human Rights in South Sudan. In 2019 and 2020, DOS and the United Nations Panel of Experts on South Sudan reported that state security forces suppressed political and civil activities, arbitrarily detaining civilians and engaging in torture and extrajudicial killings.

South Sudan continues to experience serious humanitarian conditions, including significant levels of civilian displacement and food insecurity, significant impediments to humanitarian assistance, and a severe economic crisis, according to DOS. The United Nations estimates that 7.5 million people, over 60 percent of the South Sudan's population, are dependent on humanitarian assistance. All of South Sudan continues to experience food insecurity and an estimated 6.5 million people, nearly 56 percent of the total population, are acutely food insecure, according to DOS. DOS reports that continued drought conditions in some parts of the country and flooding in other areas exacerbate food insecurity among conflict-affected populations.

The total number of displaced individuals has slightly decreased since South Sudan's 2019 TPS extension; however, conflict and intercommunal clashes continue to drive internal displacement, and insecurity remains a key concern for many displaced people, according to UNOCHA. Currently, nearly 3.9 million South Sudanese are displaced, a reduction of 330,000 since November 2018, when an estimated 4.2 million South Sudanese were reported displaced. 1.67 million South Sudanese are internally displaced, and an estimated 2.2 million South Sudanese are refugees or asylum-seekers in neighboring countries as of June 2020, according to the United Nations High Commissioner for Refugees (UNHCR). UNHCR reports 214,142 South Sudanese refugees have spontaneously returned since the revitalized peace agreement was signed in September 2018, although these returns significantly slowed in the first half of 2020 due to escalating intercommunal violence and COVID-19 border restrictions. According to DOS, the United Nations Mission in South Sudan (UNMISS) hosted more than 181,000 civilians at six civilian protection sites within UNMISS bases as of June 2020.

After contracting for four consecutive years, South Sudan's economy grew 3.2 percent in the 2018/19 Fiscal Year, largely due to a rebound in the oil sector, according to the World Bank. Nevertheless, oil sector shocks continue to impact the economy and the government's ability to service debts and fulfill obligations. In August 2020, citing plummeting oil revenues, a senior Central Bank official reported that the government had run out of foreign exchange reserves.

DOS assesses that South Sudan remains in a deep economic crisis, with further deterioration on the horizon. Over 88 percent of the population lives below the poverty line—an increase from 80 percent in 2016—and livelihoods remain concentrated in low productive, unpaid agriculture and pastoralist work. The rate of inflation increased from 40 percent in December 2018 to 86 percent in June 2019, according to World Bank estimates. The COVID-19 pandemic has contributed to further increases in the prices of basic food items and a reduction in food imports, according to the Assessment Capacities Project (ACAPS), a consortium of humanitarian non-profit organizations.

Based upon this review, and after consultation with appropriate Government agencies, the Secretary has determined that:

• The conditions supporting South Sudan's designation for TPS continue to be met. See INA section 244(b)(3)(A) and (C), 8 U.S.C. 1254a(b)(3)(A) and (C).

• There continues to be an ongoing armed conflict in South Sudan and, due to such conflict, requiring the return to South Sudan of South Sudanese nationals (or aliens having no nationality who last habitually resided in South Sudan) would pose a serious threat to their personal safety. See INA section 244(b)(1)(A), 8 U.S.C. 1254a(b)(1)(A).

• There continue to be extraordinary and temporary conditions in South Sudan that prevent South Sudanese nationals (or aliens having no nationality who last habitually resided in South Sudan) from returning to South Sudan in safety, and it is not contrary to the national interest of the United States to permit South Sudanese TPS beneficiaries to remain in the United States temporarily. See INA section 244(b)(1)(C), 8 U.S.C. 1254a(b)(1)(C).

• The designation of South Sudan for TPS should be extended for an 18-month period, from November 3, 2020, through May 2, 2022. See INA section 244(b)(3)(C), 8 U.S.C. 1254a(b)(3)(C).

Notice of Extension of the TPS Designation of South Sudan

By the authority vested in me as Secretary under INA section 244, 8 U.S.C. 1254a, I have determined, after consultation with the appropriate Government agencies, the conditions supporting South Sudan's designation for TPS continue to be met. See INA section 244(b)(3)(A), 8 U.S.C. 1254a(b)(3)(A). On the basis of this determination, I am extending the existing designation of TPS for South Sudan for 18 months, from November 3, 2020, through May 2, 2022. See INA section 244(b)(1)(A), (b)(1)(C); 8 U.S.C. 1254a(b)(1)(A), (b)(1)(C).

The Acting Secretary of Homeland Security, Chad F. Wolf, having reviewed and approved this document, has delegated the authority to electronically sign this document to Chad R. Mizelle, who is the Senior Official Performing the Duties of the General Counsel for DHS, for purposes of publication in the Federal Register.

Chad R. Mizelle,
Senior Official Performing the Duties of the General Counsel, U.S. Department of Homeland Security.

Required Application Forms and Application Fees To Re-Register for TPS

To re-register for TPS based on the designation of South Sudan, you must submit an Application for Temporary Protected Status (Form I-821). There is no Form I-821 fee for re-registration. See 8 CFR 244.17. You may be required to pay the biometric services fee. Please see additional information under the “Biometric Services Fee” section of this notice.

Through this Federal Register notice, your existing EAD issued under the TPS designation of South Sudan with the expiration date of November 2, 2020, is automatically extended for 180 days, through May 1, 2021. Although not required to do so, if you want to obtain a new EAD valid through May 2, 2022, you must file an Application for Employment Authorization (Form I-765) and pay the Form I-765 fee (or submit a Request for a Fee Waiver (Form I-912)). If you do not want a new EAD, you do not have to file Form I-765 and pay the Form I-765 fee. If you do not want to request a new EAD now, you may also file Form I-765 at a later date and pay the fee (or request a fee waiver) at that time, provided that you still have TPS or a pending TPS application.

If you have a Form I-821 and/or Form I-765 that was still pending as of November 2, 2020, then you do not need to file either application again. If USCIS approves your pending TPS application, USCIS will grant you TPS through May 2, 2022. Similarly, if USCIS approves your pending TPS-related Form I-765, it will be valid through the same date.

You may file the application for a new EAD either prior to or after your current EAD has expired. However, you are strongly encouraged to file your application for a new EAD as early as possible to avoid gaps in the validity of your employment authorization documentation and to ensure that you receive your new EAD by May 1, 2021.

For more information on the application forms and fees for TPS, please visit the USCIS TPS web page at www.uscis.gov/tps. Fees for the Form I-821, the Form I-765, and biometric services are also described in 8 CFR 103.7(b)(1)(i).

Biometric Services Fee

Biometrics (such as fingerprints) are required for all applicants 14 years of age and older. Those applicants must submit a biometric services fee. As previously stated, if you are unable to pay the biometric services fee, you may complete a Request for Fee Waiver (Form I-912). For more information on the application forms and fees for TPS, please visit the USCIS TPS web page at www.uscis.gov/tps. If necessary, you may be required to visit an Application Support Center to have your biometrics captured. For additional information on the USCIS biometrics screening process, please see the USCIS Customer Profile Management Service Privacy Impact Assessment, available at www.dhs.gov/privacy.

Refiling a TPS Re-Registration Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. USCIS will review this situation to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and can wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you would like to send your application by: | Then, mail your application to:
U.S. Postal Service | U.S. Citizenship and Immigration Services, Attn: TPS South Sudan, P.O. Box 6943, Chicago, IL 60680-6943.
A non-U.S. Postal Service courier | U.S. Citizenship and Immigration Services, Attn: TPS South Sudan, 131 S Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “South Sudan.”

Employment Authorization Document (EAD)

How can I obtain information on the status of my EAD request?

To get case status information about your TPS application, including the status of an EAD request, you can check Case Status Online at www.uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic 180-day extension of my current EAD through May 1, 2021, through this Federal Register notice?

Yes. Provided that you currently have a South Sudan TPS-based EAD with a marked expiration date of November 2, 2020, bearing the notation A-12 or C-19 on the face of the card under Category, this notice automatically extends your EAD through May 1, 2021. Although this Federal Register notice automatically extends your EAD through May 1, 2021, you must re-register timely for TPS in accordance with the procedures described in this Federal Register notice to maintain your TPS and employment authorization.

When hired, what documentation may I show to my employer as evidence of employment authorization and identity when completing Form I-9?

You can find the Lists of Acceptable Documents on the third page of Form I-9 as well as the Acceptable Documents web page at www.uscis.gov/i-9-central/acceptable-documents. Employers must complete Form I-9 to verify the identity and employment authorization of all new employees. Within 3 days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt as described in the Form I-9 instructions. Employers may not reject a document based on a future expiration date. You can find additional information about Form I-9 on the I-9 Central web page at www.uscis.gov/I-9Central.

An EAD is an acceptable document under List A. See the section “How do my employer and I complete Form I-9 using my automatically extended Employment Authorization Document for a new job?” of this Federal Register notice for further information. If your EAD has an expiration date of November 2, 2020, and states A-12 or C-19 under Category, it has been extended automatically by virtue of this Federal Register notice and you may choose to present your EAD to your employer as proof of identity and employment eligibility for Form I-9 through May 1, 2021, unless your TPS has been withdrawn or your request for TPS has been denied. See the subsection titled, “How do my employer and I complete Form I-9 using my automatically extended Employment Authorization Document for a new job?” for further information.

As an alternative to presenting evidence of your automatically extended EAD, you may choose to present any other acceptable document from List A, a combination of one selection from List B and one selection from List C, or an acceptable receipt.

What documentation may I present to my employer for Form I-9 if I am already employed but my current TPS-related EAD is set to expire?

Even though your EAD has been automatically extended, your employer is required by law to ask you about your continued employment authorization, and you will need to present your employer with evidence that you are still authorized to work. Once presented, your employer should update the EAD expiration date in Section 2 of Form I-9. See the section “What corrections should my current employer make to Form I-9 if my employment authorization has been automatically extended?” of this Federal Register notice for further information. You may show this Federal Register notice to your employer to explain what to do for Form I-9 and to show that your EAD has been automatically extended through May 1, 2021. Your employer may need to re-inspect your automatically extended EAD to check the Card Expires date and Category code if your employer did not keep a copy of your EAD when you initially presented it.

The last day of the automatic extension for your EAD is May 1, 2021. Before you start work on May 2, 2021, your employer is required by law to reverify your employment authorization in Section 3 of Form I-9. At that time, you must present any document from List A or any document from List C on Form I-9, Lists of Acceptable Documents, or an acceptable List A or List C receipt described in the Form I-9 instructions to reverify employment authorization.

If your original Form I-9 was a previous version, your employer must complete Section 3 of the current version of Form I-9 and attach it to your previously completed Form I-9. Your employer can check the I-9 Central web page at www.uscis.gov/I-9Central for the most current version of Form I-9.

Your employer may not specify which List A or List C document you must present and cannot reject an acceptable receipt.

Can my employer require that I provide any other documentation to prove my status, such as proof of my South Sudanese citizenship or a Form I-797C showing I re-registered for TPS?

No. When completing Form I-9, including reverifying employment authorization, employers must accept any documentation that appears on the Form I-9 Lists of Acceptable Documents that reasonably appears to be genuine and that relates to you, or an acceptable List A, List B, or List C receipt. Employers need not reverify List B identity documents. Employers may not request documentation that does not appear on the Lists of Acceptable Documents. Therefore, employers may not request proof of South Sudanese citizenship or proof of re-registration for TPS when completing Form I-9 for new hires or reverifying the employment authorization of current employees. If presented with an EAD that has been automatically extended, employers should accept such a document as a valid List A document, so long as the EAD reasonably appears to be genuine and relates to the employee. Refer to the “Note to Employees” section of this Federal Register notice for important information about your rights if your employer rejects lawful documentation, requires additional documentation, or otherwise discriminates against you based on your citizenship or immigration status, or your national origin.

How do my employer and I complete Form I-9 using my automatically extended Employment Authorization Document for a new job?

When using an automatically extended EAD to complete Form I-9 for a new job before May 2, 2021, for Section 1, you should:

a. Check “An alien authorized to work until” and enter May 1, 2021 as the expiration date; and

b. Enter your USCIS number or A-Number where indicated (your EAD or other document from DHS will have your USCIS number or A-Number printed on it; the USCIS number is the same as your A-Number without the A prefix).

For Section 2, your employer should:

a. Determine if the EAD is auto-extended by ensuring it is in Category A-12 or C-19 and has a Card Expires date of November 2, 2020;

b. Write in the document title;

c. Enter the issuing authority;

d. Enter either the employee's A-Number or USCIS number from Section 1 in the Document Number field on Form I-9; and

e. Write May 1, 2021, as the expiration date.

Before the start of work on May 2, 2021, employers must reverify the employee's employment authorization in Section 3 of Form I-9.

What corrections should my current employer make to Form I-9 if my Employment Authorization Document has been automatically extended?

If you presented a TPS-related EAD that was valid when you first started your job and your EAD has now been automatically extended, your employer may need to re-inspect your current EAD if the employer does not have a copy of the EAD on file. Your employer should determine if your EAD is automatically extended by ensuring that it contains Category A-12 or C-19 and has a Card Expires date of November 2, 2020. If your employer determines that your EAD has been automatically extended, your employer should update Section 2 of your previously completed Form I-9 as follows:

a. Write EAD EXT and May 1, 2021, as the last day of the automatic extension in the Additional Information field; and

b. Initial and date the correction.

Note: This is not considered a reverification. Employers do not need to complete Section 3 until either the 180-day automatic extension has ended, or the employee presents a new document to show continued employment authorization, whichever is sooner. By May 2, 2021, when the employee's automatically extended EAD has expired, employers are required by law to reverify the employee's employment authorization in Section 3. If your original Form I-9 was a previous version, your employer must complete Section 3 of the current version of Form I-9 and attach it to your previously completed Form I-9. Your employer can check the I-9 Central web page at www.uscis.gov/I-9Central for the most current version of Form I-9.

If I am an employer enrolled in E-Verify, how do I verify a new employee whose EAD has been automatically extended?

Employers may create a case in E-Verify for a new employee by providing the employee's A-Number or USCIS number from Form I-9 in the Document Number field in E-Verify.

If I am an employer enrolled in E-Verify, what do I do when I receive a “Work Authorization Documents Expiration” alert for an automatically extended EAD?

E-Verify has automated the verification process for TPS-related EADs that are automatically extended. If you have employees who provided a TPS-related EAD when they first started working for you, you will receive a “Work Authorization Documents Expiring” case alert when the auto-extension period for this EAD is about to expire. Before this employee starts work on May 2, 2021, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. USCIS accepts calls and emails in English and many other languages. For questions about avoiding discrimination during the employment eligibility verification process (Form I-9 and E-Verify), employers may call the U.S. Department of Justice's Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. USCIS accepts calls in English, Spanish, and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from records available to DHS.

Employers may not terminate, suspend, delay training, withhold pay, lower pay, or take any adverse action against an employee because of the TNC while the case is still pending with E-Verify. A “Final Nonconfirmation” (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at www.justice.gov/ier and on the USCIS and E-Verify websites at www.uscis.gov/i-9-central and www.e-verify.gov.

Note Regarding Federal, State, and Local Government Agencies (Such as Departments of Motor Vehicles)

For Federal purposes, TPS beneficiaries presenting an EAD referenced in this Federal Register Notice do not need to show any other document, such as an I-797C Notice of Action, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

• Your current EAD;

• A copy of your Form I-797C, Notice of Action, for your Form I-765 providing an automatic extension of your currently expired or expiring EAD;

• A copy of your Form I-797C, Notice of Action, for your Form I-821 for this re-registration;

• A copy of your Form I-797, the notice of approval, for a past or current Form I-821, if you received one from USCIS; and

• Any other relevant DHS-issued document that indicates your immigration status or authorization to be in the United States, or that may be used by DHS to determine whether you have such status or authorization to remain in the United States.

Check with the government agency regarding which document(s) the agency will accept. Some benefit-granting agencies use the USCIS Systematic Alien Verification for Entitlements (SAVE) program to confirm the current immigration status of applicants for public benefits. While SAVE can verify when an alien has TPS, each agency's procedures govern whether they will accept an unexpired EAD, Form I-797, or Form I-94, Arrival/Departure Record. You should:

a. Present the agency with a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response showing the validity of your TPS.

You can also ask the agency to look for SAVE notices or contact SAVE if they have any questions about your immigration status or auto-extension of TPS-related documentation. In most cases, SAVE provides an automated electronic response to benefit-granting agencies within seconds, but, occasionally, verification can be delayed. You can check the status of your SAVE verification by using CaseCheck at save.uscis.gov/ casecheck/, then by clicking the “Check Your Case” button. CaseCheck is a free service that lets you follow the progress of your SAVE verification using your date of birth and one immigration identifier number (A-number, USCIS number or Form I-94 number). If an agency has denied your application based solely or in part on a SAVE response, the agency must offer you the opportunity to appeal the decision in accordance with the agency's procedures. If the agency has received and acted upon or will act upon a SAVE verification and you do not believe the SAVE response is correct, you may make an appointment for an in-person interview at a local USCIS office. Detailed information on how to make corrections or update your immigration record, make an appointment, or submit a written request to correct records under the Freedom of Information Act can be found on the SAVE website at www.uscis.gov/save.

[FR Doc. 2020-24238 Filed 10-30-20; 8:45 am]

BILLING CODE 9111-97-P